DEPARTMENT OF TRANSPORTATION

Federal Aviation Administration

14 CFR Part 39

[Docket No. FAA-2007-0219; Directorate Identifier 2007-NE-46-AD; Amendment 39-15806; AD 2009-03-05]

RIN 2120-AA64

Airworthiness Directives; Pratt & Whitney Canada PW206A, PW206B, PW206B2, PW206C, PW206E, PW207C, PW207D, and PW207E Turboshaft Engines

AGENCY: Federal Aviation Administration (FAA), DOT.

ACTION: Final rule.

SUMMARY: We are adopting a new airworthiness directive (AD) for the products listed above. This AD results from mandatory continuing airworthiness information (MCAI) issued by an aviation authority of another country to identify and correct an unsafe condition on an aviation product. The MCAI describes the unsafe condition as:

PW206 and PW207 compressor turbine (CT) disc bore areas may experience impact damage resulting from bending or fracture of the CT disc retaining nut. Damage of the CT disc bore area can reduce LCF capabilities of the CT disc, resulting in disc fracture.

We are issuing this AD to prevent damage to the CT disc bore area, which could result in possible uncontained failure of the engine and damage to the helicopter.

DATES: This AD becomes effective March 27, 2009. The Director of the Federal Register approved the incorporation by reference of certain publications listed in this AD as of March 27, 2009.

ADDRESSES: The Docket Operations office is located at Docket Management Facility, U.S. Department of Transportation, 1200 New Jersey Avenue, SE., West Building Ground Floor, Room W12-140, Washington, DC 20590-0001.

FOR FURTHER INFORMATION CONTACT: Ian Dargin, Aerospace Engineer, Engine Certification Office, FAA, Engine and Propeller Directorate, 12 New England Executive Park; Burlington, MA 01803; e-mail: ian.dargin@faa.gov; telephone (781) 238-7178; fax (781) 238-7199.

SUPPLEMENTARY INFORMATION:

Discussion

We issued a notice of proposed rulemaking (NPRM) to amend 14 CFR part 39 to include an AD that would apply to the specified products. That NPRM was published in the Federal Register on June 25, 2008, (73 FR 35982). That NPRM proposed to correct an unsafe condition for the specified products. The MCAI states:

PW206 and PW207 compressor turbine (CT) disc bore areas may experience impact damage resulting from bending or fracture of the CT disc retaining nut. Damage of the CT disc bore area can reduce LCF capabilities of the CT disc, resulting in disc fracture.

Under high centrifugal loads, the CT disk retaining nut castellations might bend outward, then contact and mark the CT disk internal bore. Worldwide, a total of five events of CT nut damage and associated damage to the CT disk bore have been reported. A total of 195 out of 402 engines in the U.S. fleet have been inspected with two cases of CT nut damage and no findings of disk damage, to date. You may obtain further information by examining the MCAI in the AD docket.

Comments

We gave the public the opportunity to participate in developing this AD. We received no comments on the NPRM or on the determination of the cost to the public.

Conclusion

We reviewed the available data and determined that air safety and the public interest require adopting the AD as proposed.

Differences Between This AD and the MCAI

Although the MCAI allows use of future revisions of PWC ASB PW200-72-A28280, we require the use of Revision 4 of that ASB.

Although the MCAI has a March 21, 2008 compliance date, we have changed the final rule from a December 21, 2008 compliance date to within 30 days after the effective date of the AD. This is based on a review of the risk assessment and the fleet inspection results to date.

Costs of Compliance

We estimate that this AD will affect 402 engines of U.S. registry. We also estimate that it will take 8 work-hours per product to comply with this AD. The average labor rate is $80 per work-hour. Required parts will cost about $500 per product. We expect that 1 disk on the remaining 207 engines will be replaced, at an estimated cost of $20,000. Based on these figures, we estimate the cost of the AD to U.S. operators to be $478,280. Our cost estimate is exclusive of possible warranty coverage.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains this AD, the regulatory evaluation, any comments received, and other information. The street address for the Docket Operations office (telephone (800) 647-5527) is provided in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2009-03-05 Pratt Whitney Canada: Amendment 39-15806. Docket No. FAA-2007-0219; Directorate Identifier 2007-NE-46-AD.

Effective Date

(a) This airworthiness directive (AD) becomes effective March 27, 2009.

Affected ADs

(b) None.

Applicability

(c) This airworthiness directive (AD) applies to Pratt & Whitney Canada (PWC) PW206A, PW206B, PW206B2, PW206C, PW206E, PW207C, PW207D, and PW207E turboshaft engines.

(d) These engines are installed on, but not limited to, MD Explorer, Agusta S.p.A. A109, A109E, A109S, Bell Helicopter Textron Canada Limited 427, Bell 429, and Eurocopter Deutschland GmbH EC135 P1, and EC135 P2 helicopters.

(e) For engines that have been converted from one model to another, see Effectivity paragraph 1.A. of PWC Alert Service Bulletin (ASB) PW200-72-A28280, Revision 4, dated August 28, 2007.

Reason

(f) Transport Canada AD CF-2007-24R1, dated December 21, 2007, states:

PW206 and PW207 compressor turbine (CT) disc bore areas may experience impact damage resulting from bending or fracture of the CT disc retaining nut. Damage of the CT disc bore area can reduce LCF capabilities of the CT disc, resulting in disc fracture.

We are issuing this AD to prevent damage to the CT disc bore area, which could result in possible uncontained failure of the disc and damage to the helicopter.

Actions and Compliance

(g) Unless already done, do the following actions:

(1) For engines that have never had a shop visit and have accumulated 4,000 CT cycles or more since new; or for engines that accumulated 2,700 CT cycles or more since last shop visit, last CT disc inspection, or incorporation of PWC SB PW200-72-28287; within 1,150 hours of engine operating time since April 28, 2006 (original issue date of Alert Service Bulletin (ASB) PW200-72-A28280), but not later than 30 days after the effective date of this AD, whichever occurs first, accomplish the following in accordance with PWC ASB PW200-72-A28280, Revision 4, dated August 28, 2007:

(i) Inspect the CT disc bore area for damage and if any damage is noticed, replace the CT disc before further flight.

(ii) Replace the existing CT disc retaining nut and associated hardware.

(2) For engines that have never had a shop visit and have accumulated less than 4,000 CT cycles since new, before the engine reaches 4,000 CT cycles or within 30 days after the effective date of this AD, whichever occurs later, accomplish the following in accordance with PWC ASB PW200-72-A28280, Revision 4, dated August 28, 2007:

(i) Inspect the CT disc bore area for damage and if any damage is noticed, replace the CT disc before further flight.

(ii) Replace the existing CT disc retaining nut and associated hardware.

(3) For engines that have accumulated fewer than 2,700 CT cycles since last shop visit, last CT disc inspection, or incorporation of PWC SB PW200-72-28287; before the engine reaches 2,700 CT cycles or within 30 days after the effective date of this AD, whichever occurs later, accomplish the following in accordance with PWC ASB PW200-72-A28280, Revision 4, dated August 28, 2007:

(i) Inspect the CT disc bore area for damage and if any damage is noticed, replace the CT disc before further flight.

(ii) Replace the existing CT disc retaining nut and associated hardware.

Previous Credit

(h) Inspection of the CT disc bore and replacement of the CT disc retaining nut using PWC ASB PW200-72-A28280, dated April 28, 2006, or Revision 1, dated May 11, 2006, or Revision 2, dated September 29, 2006, or Revision 3, dated December 11, 2006, before the effective date of this AD, meets the requirements of this AD.

Other FAA AD Provisions

(i) Alternative Methods of Compliance (AMOCs): The Manager, Engine Certification Office, FAA, may approve AMOCs for this AD, if requested using the procedures found in 14 CFR 39.19.

Related Information

(j) Refer to Transport Canada Airworthiness Directive 2007-24R1, dated December 21, 2007, for related information.

(k) Contact Ian Dargin, Aerospace Engineer, Engine Certification Office, FAA, Engine and Propeller Directorate, 12 New England Executive Park; Burlington, MA 01803; e-mail: ian.dargin@faa.gov; telephone (781) 238-7178; fax (781) 238-7199.

Material Incorporated by Reference

(l) You must use Pratt & Whitney Canada Alert Service Bulletin (ASB) PW200-72-A28280, Revision 4, dated August 28, 2007 to do the actions required by this AD, unless the AD specifies otherwise.

(1) The Director of the Federal Register approved the incorporation by reference of this service information under 5 U.S.C. 552(a) and 1 CFR part 51.

(2) For service information identified in this AD, contact Pratt & Whitney Canada Corp., 1000 Marie-Victorin, Longueuil, Quebec, Canada J4G 1A1, telephone: (800) 268-8000.

(3) You may review copies at the FAA, New England Region, 12 New England Executive Park, Burlington, MA; or at the National Archives and Records Administration (NARA). For information on the availability of this material at NARA, call (202) 741-6030, or go to: http://www.archives.gov/federal-register/cfr/ibr-locations.html.

Issued in Burlington, Massachusetts, on January 29, 2009.
Peter A. White,
Assistant Manager, Engine and Propeller Directorate, Aircraft Certification Service.

[FR Doc. E9-3046 Filed 2-19-09; 8:45 am]

BILLING CODE 4910-13-P